DEPARTMENT OF HOMELAND SECURITY

Coast Guard

33 CFR Part 117

[Docket No. USCG-2011-0203]

Drawbridge Operation Regulations; Apponagansett River, Dartmouth, MA

AGENCY: Coast Guard, DHS.

ACTION: Notice of temporary deviation from regulations.

SUMMARY: The Commander, First Coast Guard District, has issued a temporary deviation from the regulation governing the operation of the Padanaram Bridge at mile 1.0 across the Apponagansett River, at Dartmouth, Massachusetts. The deviation is necessary to facilitate electrical maintenance. This deviation allows the bridge to remain in the closed position for five days.

DATES: This deviation is effective from April 18, 2011 through April 22, 2011.

ADDRESSES: Documents mentioned in this preamble as being available in the docket are part of docket USCG-2011-0203 and are available online at http://www.regulations.gov, inserting USCG-2011-0203 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. John McDonald, Project Officer, First Coast Guard District, john.w.mcdonald@uscg.mil, or telephone (617) 223-8364. If you have questions on viewing the docket, call Renee V. Wright, Program Manager, Docket Operations, telephone 202-366-9826.

SUPPLEMENTARY INFORMATION: The Padanaram Bridge, across the Apponagansett River, mile 1.0, at Dartmouth, Massachusetts, has a vertical clearance in the closed position of 9 feet at mean high water and 12 feet at mean low water. The drawbridge operation regulations are listed at 33 CFR 117.587.

The owner of the bridge, the Town of Dartmouth, requested a temporary deviation from the regulations to facilitate electrical repairs, motor replacement, at the bridge.

Under this temporary deviation the Padanaram Bridge may remain in the closed position from April 18, 2011 through April 22, 2011. Vessels that can pass under the bridge in the closed position may do so at any time.

In accordance with 33 CFR 117.35(e), the bridge must return to its regular operating schedule immediately at the end of the designated time period. This deviation from the operating regulations is authorized under 33 CFR 117.35.

Dated: March 29, 2011.
Gary Kassof,
Bridge Program Manager, First Coast Guard District.

[FR Doc. 2011-8517 Filed 4-8-11; 8:45 am]

BILLING CODE 9110-04-P